DEPARTMENT OF TRANSPORTATION

Research and Special Programs Administration

49 CFR Part 195

[Docket No. RSPA-01-8663; Amdt. 195-75]

RIN 2137-AD56

Pipeline Safety: Hazardous Liquid Pipeline Accident Reporting Revisions

AGENCY: Office of Pipeline Safety, Research and Special Programs Administration, Department of Transportation.

ACTION: Final rule.

SUMMARY: This final rule makes changes to the reporting requirements for hazardous liquid pipeline accidents. The rule lowers the current release reporting threshold of 50 barrels to a new threshold of 5 gallons, and makes changes to the accident report form. The changes are necessary because the existing reporting threshold and report form do not yield sufficient information for effective safety analysis. This final rule also changes the “bodily harm” criteria for accident reporting to conform to the gas pipeline reporting requirements. This change is necessary to harmonize reporting by hazardous liquid and gas pipeline operators.

DATES: This rule is effective January 1, 2002.

FOR FURTHER INFORMATION CONTACT: Roger Little by phone at (202) 366-4569, by e-mail at roger.little@rspa.dot.gov, or by mail at the U.S. Department of Transportation (DOT), Research and Special Programs Administration (RSPA), Office of Pipeline Safety (OPS), Room 7128, 400 7th Street, SW., Washington, DC 20590.

SUPPLEMENTARY INFORMATION:

Background

The mission of RSPA's OPS is to ensure the safe, reliable, and environmentally sound operation of the nation's approximately 154 thousand miles of hazardous liquid pipelines. OPS shares responsibility for inspecting and overseeing the nation's pipelines with State pipeline safety offices. Both Federal and State regulators depend on accident reports submitted by pipeline companies to manage inspection programs and to identify trends in hazardous liquid pipeline safety. In recent years, Congress, the National Transportation Safety Board (NTSB) and DOT's Office of the Inspector General (OIG) have urged OPS to improve the quality of accident data required to be submitted by hazardous liquid pipeline operators.

Release Threshold

RSPA published a Notice of Proposed Rulemaking (NPRM) on March 20, 2001 (66 FR 15681). The NPRM proposed changing the hazardous liquid accident reporting requirement from a threshold release of 50 barrels to 5 gallons; and adding to the report form (RSPA F7000-1), more specific questions on accident location, causes, and consequences.

The NPRM also proposed that a spill under 5 barrels meeting all of the following criteria, need not be reported to RSPA:

(1) The other circumstances enumerated in § 195.50 did not apply to the spill;

(2) The spill did not result in water pollution;

(3) The spill was attributable to a pipeline maintenance activity;

(4) The spill was confined to company property or pipeline right-of-way; and

(5) The spill was cleaned up promptly.

After consideration of all comments, this final rule amends the pipeline safety regulations to lower the reporting threshold for hazardous liquid pipeline releases from 50 barrels to 5 gallons, with an exception for spills under 5 barrels resulting from pipeline maintenance activities. This rule makes corresponding changes to the hazardous liquid accident report form to make it more useful for safety analysis.

The old report form consisted of two pages. The new report form consists of four pages. Completion of the first page only, is required for small releases (between 5 gallons and under 5 barrels) that are not reportable under the other § 195.50 criteria, nor result in water pollution (water pollution is as described in § 195.52(a)(4)). Completion of all four pages will be required for releases of: 5 barrels or more that are reportable under the other criteria in 49 CFR 195.50; or 5 gallons or more that result in water pollution.

Change in “Bodily Harm” Criteria for Accident Reporting

In another NPRM (Docket No. RSPA-99-6106; 65 FR 15290; March 22, 2000), RSPA proposed changing the “bodily harm” criteria in 49 CFR 195.50(e). RSPA proposed changing the language in 49 CFR 195.50(e) to require reporting only if an injury associated with a hazardous liquid pipeline accident requires hospitalization of the injured person.

The current language at § 195.50(e) which triggers a reporting requirement reads as follows:

Bodily harm to any person resulting in one or more of the following:

(1) Loss of consciousness.

(2) Necessity to carry the person from the scene.

(3) Necessity for medical treatment.

(4) Disability which prevents the discharge of normal duties or the pursuit of normal activities beyond the day of the accident.

These criteria require reporting of even the most minor injury. The lack of a definition of medical treatment in the regulations means, if a bandage is applied at the scene the accident is reportable, even if it does not meet any of the other reportability criteria.

The comparable language in the gas pipeline safety rules requires gas operators to report releases of gas that involve a “personal injury necessitating in-patient hospitalization.” (49 CFR 191.3, 191.5, 191.9, and 191.15). As explained in the NPRM, this wording better describes the information that RSPA is seeking. Accordingly, RSPA proposed to update the hazardous liquid pipeline accident reporting requirements at § 195.50(e) to eliminate the discrepancy between the accident reporting criteria for gas and hazardous liquid pipelines.

This final rule removes the language currently in § 195.50(e) and replaces it with “a personal injury necessitating in-patient hospitalization.”

Comments

Comments on Proposed Change in “Bodily Harm” Criteria

On May 3, 2000, the proposed changes in the injury criteria for reportability of hazardous liquid pipeline accidents were discussed at a joint meeting of the Technical Hazardous Liquid Pipeline Safety Standards Committee and the Technical Pipeline Safety Standards Committee. These statutorily mandated committees, which are made up of representatives from the government, industry, and the general public, review pipeline safety regulations. Some committee members expressed concern that the change would weaken the reporting requirements for hazardous liquid pipeline accidents. The concern was that some accidents that are reportable under the current language, would no longer be reportable under the proposed language.

We noted the proposed change would not cause any otherwise reportable hazardous liquid pipeline accident to become non-reportable. For example, under the proposed change, the 1994 San Jacinto River accident in Harris County, Texas, would still need to be reported based on product loss and property damage criteria. We also noted, most accidents causing serious injury are also reportable under one of the other criteria. The “bodily harm” category was included as a reporting criterion in the unlikely event that an accident resulting in such injury would not fall into one of the other reporting criteria. Additionally, we noted that the reporting language in Part 192, which embodies our original intent relative to the injury criteria for reportability of pipeline accidents, was adopted before the “bodily harm” language in part 195.

In response to the NPRM in Docket No. RSPA-99-6106, RSPA received comments from the American Petroleum Institute (API) and the Cascade Columbia Alliance.

API supported the proposed accident reporting criteria change in § 195.50 to make the injury criteria consistent with that used for natural gas pipelines. It noted that the clarification makes reporting of accidents consistent across gas and hazardous liquid pipelines, and “grew out of discussions among RSPA, the pipeline industry, and State regulators.” In contrast, the Cascade Columbia Alliance asserted that the proposed injury language weakened reporting requirements for hazardous liquid pipelines and would “encourage pipeline operators to avoid hospitalization for their workers so as to avoid filing an accident report.”

RSPA's intention for the change is to ensure that reporting of accidents is consistent for both gas and hazardous liquid pipelines. The regulation is not aimed at tracking worker injuries.

Comments on Lower Reporting Threshold

RSPA received comments from eleven sources in response to the NPRM in this docket (66 FR 15681; March 20, 2001). Virtually all commenters were supportive of the need for improved information about hazardous liquid pipeline accidents. The American Society of Safety Engineers supported the data improvement initiative and believed the benefits of the improved information would outweigh the small increased costs. The American Petroleum Institute (API) and the Association of Oil Pipe Lines (AOPL), trade associations that represent many companies involved in all aspects of the oil and gas industry, filed joint comments prepared in coordination with both API and AOPL's members.

Several commenters suggested that the $50,000 property damage threshold for an accident report was redundant and should be eliminated in light of the lowering of the volumetric release threshold for reporting from 50 barrels to 5 gallons. For the same reason, one commenter suggested that the $50,000 property damage threshold for telephonic notice of a release of hazardous material be eliminated.

The NPRM did not propose any change in the property damage threshold for filing accident report Form F7000-1. Although many “over-$50,000-property-damage” accidents may also be reportable under the 5 gallon threshold criterion, retaining the “over-$50,000-property-damage” criterion will continue to provide more complete data, than if eliminated. Changes to the telephonic reporting requirement are beyond the scope of the NPRM.

Several commenters believed we underestimated the time and cost of reporting the expanded information required by the revisions to Form F7000-1.

In response, we point the commenters to the analysis of costs in the “Paperwork Reduction Act” section of this Final Rule for more information on the basis of our estimates.

A group of students from Miami International University submitted four recommendations—

“(1) Given the twofold environmental effect of hazardous liquid or carbon dioxide spills to not only the immediate ground but also the atmosphere (air), and therefore, consequences realistic on any property, the reporting requirement should be lowered from 5 barrels to 10 gallons (38 liters) for spills on any property whether from accident or maintenance.

(2) Aggregate spills of hazardous liquid or carbon dioxide of a minimum of 10 gallons (38 liters) will pose sufficient damage to warrant immediate clean-up, and therefore, it should be mandated.

(3) Lowering the reporting requirement for spills from 5 barrels to 5 gallons (19 liters) only when it is not readily cleaned up on any property.

(4) Tools for Reporting Accidents (§ 195.50): Since technology has evolved and continues to do so, accident reporting should be done in an efficient, cost-effective, time-constrained manner in tune with the technology available to us today. Furthermore, electronic accident reporting is effective and productive for meaningful incident information. The DOT, Office of Public [sic] Safety, should establish a web site where different accident report-hazardous liquid pipeline forms could be electronically filled out in case of an accident. Some of the benefits of electronic filing are: (i) instant information available, (ii) immediate dangers readily visible, and, (iii) reduced cost to companies. * * *”

In addition, API and Colonial Pipeline Company suggested that access to information both by RSPA, the public, and pipeline operators can be significantly improved by providing for electronic reporting of accidents. They urged us to move expeditiously to provide operators with the ability to file accident reports electronically.

We believe the bulk of hazardous liquid releases remain liquid at ambient temperatures, and therefore have little impact on the atmosphere. The exception is highly volatile liquid spills, which are gaseous at ambient temperatures. We have chosen to exclude from the reporting requirement hazardous liquid releases under 5 barrels that result from maintenance operations. Our information is that such spills occur regularly upon the opening of pipelines for insertion of spheres, smart pigs, or for routine inspections. The spills are usually caught in a berm or other containment device; are cleaned up immediately; and have little or no impact on the environment. We believe information on such releases would not be helpful in accident trending analysis. Maintenance spills must be promptly cleaned up to avoid the reporting requirement. Any non-maintenance spill of 5 gallons or more must be reported.

With regard to electronic reporting, we agree that electronic reporting is efficient and economical. Electronic reporting for hazardous liquid pipeline accidents will be available via the OPS Internet homepage at http://ops.dot.gov beginning January 1, 2002.

API and AOPL suggested reorganizing the sections in the accident report to simplify it. API suggested that [the] first page of [the] accident reporting form should be reorganized to clearly differentiate the information that must be provided for all spills from that which is required for those spills greater than 5 barrels.” API also suggested that latitude and longitude should be collected for all spills, not just those greater than 5 barrels as proposed in the NPRM. API suggested that the causal categories for small accidents should “use identical language to that for large spills (i.e., ‘Excavation’ should be ‘Excavation damage or other outside force’, ‘Material and Welds’ should be ‘Material and/or weld failures,’ ‘Operation should be ‘Incorrect Operation.’ This will allow the longer form to provide insight for defining causes consistently across both types of releases.” In addition, API suggested that instead of collecting spill quantity in two separate places on the form, that spill size be collected on page one for all spills.

We agreed with these comments and reorganized and changed the form as suggested.

API further noted that “The instructions for the accident reporting form change the definition of ‘injury’ for the purpose of accident reporting. The regulations must also be changed in § 195.50 (reporting accidents) and § 195.52 (telephonic notification). The changes in the definition for ‘injury’ under the instructions will make hazardous liquid pipeline reporting requirements comparable to those for natural gas pipelines. These changes must be implemented in the regulations themselves under § 195.50 and § 195.52. The changes cannot be implemented through the reporting form or instructions alone.”

We agree with the suggested change to § 195.50(e) and adopted it. However, Section 195.52 was not the subject of the NPRM, and a change to that section would be beyond the scope of this rulemaking.

API suggested that categories for property damage should be modified to more accurately define the categories that are applicable and that make sense to pipeline operators. “For accuracy, this section of the reporting form should be titled ‘Compensated losses.’ Losses that accrue to the operator should be separated from losses that accrue to affected individuals or the public. Property damage or loss is really a misnomer. Although losses do occur, on this reporting form we are really accounting for damages for which an operator has provided reimbursement to the community, the public, or affected individuals. It is actually a measure of those losses that can in some way be reimbursed or losses that accrue to the operating company itself. API recommends that this portion of the accident form be redrafted as follows:

Compensated Losses (Estimated)

* Public/Community Losses:
—Estimated Public/private property damage reimbursed by operator | $
—Cost of emergency response undertaken by or reimbursed by operator | $
—Cost of longer term environmental remediation undertaken by or reimbursed by operator | $
—Other | $
Operator losses:
—Value of product lost | $
—Value of operator property damage | $
—Other | $”

We adopted the API suggestions with some changes.

API also suggested that:

“Form Part F (environmental impacts), item 6 should be changed from ‘wildlife mortality’ to ‘wildlife impact.’ Mortality is too high a threshold for measuring the impact of accidents on wildlife. As an example, any bird that is oiled during an accident and survives is clearly impacted. We believe that a reasonable person would judge such oiling as an impact and expect that the industry be held to such a reasonable standard.”

We agree and changed the form accordingly.

Colonial Pipeline Company (Colonial) recommended that additional information be added to Part G (Leak Detection Information) of the proposed accident form. Specifically, Colonial recommended that line items be added for “estimated leak rate” and “estimated percentage of flow.” Colonial believes this would provide valuable information to RSPA and the regulated community.

We may consider obtaining this additional information through a separate rulemaking.

Gregg Zimmerman, Administrator, Planning/Building/Public Works Department, with City of Renton, Washington, suggested that a “requirement for immediate notification of the local public safety/emergency management agencies is critical. These are the first line responders, and our experience shows us that often they are not contacted in the event of a leak for hours or even days. However, this requirement clearly should be part of the federal law, or at least the agency rules.”

We determined this recommendation to be beyond the scope of this rulemaking.

Enron Transportation Services (ETS) commented that “[t]he availability of more detailed pipeline accident information is of value not only to OPS for regulatory purposes, but is also highly valued by the pipeline industry in identifying potential risks to pipeline safety and integrity. Most pipeline operators utilize this accident information to immediately evaluate their systems for the potential of similar risk factors and take steps to mitigate those factors on a timely basis whenever possible. ETS therefore strongly agrees that improving the method of accident data collection provides a benefit to the industry in being able to more reliably identify the cause of these accidents. Reducing the reporting limits to those proposed may indeed be counterproductive, however, in that the database will be flooded with information relating to minor pipeline problems as opposed to obtaining better information about potentially serious pipeline safety related issues. One of the reasons that the cost level limit for reportable accidents was raised in 1984 was to eliminate the reporting of non-significant pipeline accidents, and this proposed rulemaking will completely reverse that intent.”

We noted that the cost threshold for reporting accidents was raised in 1994 from $5,000.00 to $50,000.00 to achieve parity between reporting of hazardous liquid and natural gas pipeline accidents, not “to eliminate reporting of non-significant pipeline accidents.” Regarding “flooding the database with information relating to minor problems,” we believe the only way to determine that small spills are “minor problems” is to collect information on such spills.

ETS commented that “the decision process for the determination of any pipeline remedial action should be the responsibility of the pipeline operator based upon that operator's assessment of the known risks and economic issues that only the operator must bear. Without first hand knowledge of all of the numerous factors that must be considered in making the repair versus replacement decision, this pipeline safety data may lead to hasty decisions that are not in the overall best interests of public safety. One of the consequences may be outside pressure to apply significant financial resources to a pipeline facility that presents a much lower risk to public safety than another less publicly visible facility.”

We recognize that it is industry's responsibility to determine when rehabilitation and replacement of any pipeline facility may be needed. We believe that better overall accident information will provide industry with a useful tool to help make better decisions about rehabilitation and replacement.

ETS noted that “[t]he reduction in the spill reporting limit is noted in this section as being included in proposed bills now before Congress.” ETS estimates that the low reporting limit is going to have a major impact on both the pipeline operators and DOT. Therefore, it believes the reporting limit should be established by Congress.

Based on outreach with the hazardous liquid pipeline industry and comments by that industry to the NPRM, we do not believe that a reduced spill reporting limit will have a major impact on pipeline operators because the additional burden to the pipeline industry to provide the data does not require significant effort. The additional data will improve the information available upon which to make safety decisions. Based on action thus far in Congress, we have no reason to believe that Congress would object to this final rule.

ETS also commented that “* * * flooding the DOT accident database with numerous minor leaks or spills will ultimately bias the accident cause data and thereby mask the causes of more serious pipeline accidents that need to be addressed by DOT and the industry. This reporting requirement is also redundant in that data concerning leaks impacting bodies of water are already being documented under the applicable environmental regulations.”

We believe the accident database will not be flooded with minor releases because the proposed changes eliminate the need for reporting releases that occur during normal maintenance activities as described in the NPRM. We are focused on obtaining sufficient information about small releases to adequately categorize the risks posed by such accidents. At the same time we will obtain more precise information on spills of 5 or more barrels—information that is needed to further address safety issues. Although information on spills is being reported to environmental agencies under other regulations, we need to obtain this information to properly manage our pipeline safety responsibilities.

Tosco Corporation (Tosco) participated in an industry effort to accumulate information about releases that are now less than the current 50 barrel or more criteria. Tosco noted that “information has been collected by a majority of the liquid industry on releases down to 5 gallons for the past few years. We believe it is critical information that can be used in the future for risk and integrity management efforts.” Tosco also suggested that “[t]he proposed * * * criteria for the non-reporting of releases of 5 gallons or more but less than 5 barrels may need to be better defined in the preamble to the final rule. Would a release occurring during the hydrostatic testing of a pipeline during maintenance activities that has a petroleum liquid as the test medium fall under this criteria?” Tosco also commented that the revisions to the accident reporting form are “well thought out” and that the information that “will be generated by this new form will indeed help to precisely detect trends in the causes of reportable pipeline accidents.”

We pointed out that releases meeting the requirements of the normal maintenance operations exception in the final rule need not be reported.

The Citizens Advisory Committee on Pipeline Safety (Washington State) “disagreed with our proposal to reduce the threshold for reportable spills from the current level of 50 barrels to 5 gallons. The Committee stated that sufficient information can be acquired from pipeline operators by requiring reporting of incidents that are 1 (one) barrel or larger. The requirement of reporting all spills of 5 gallons or more appears to be more stringent than is required by good practice and necessary record keeping.” OPS worked with a joint data team composed of State, Federal, and industry representatives to determine a reasonable accident reporting threshold. Higher reporting thresholds were considered, but we chose 5 gallons because we believe the benefit of reporting releases at the 5 gallon level outweighs the burden of collecting it. The benefit is in increased awareness of pipeline releases, especially the frequency of small spills. The data team believed that a higher threshold than 5 gallons would still leave concerns about the lack of information about such spills, especially if they impacted water.

The Minerals Management Service (MMS) of the U.S. Department of the Interior supported RSPA's efforts to improve pipeline accident data collection and analyses. MMS suggested that 49 CFR 195.1(b)(5) should be deleted since it includes jurisdictional criteria used prior to the 1996 Memorandum of Understanding (MOU) between MMS and OPS, which clarified each agency's jurisdiction over offshore pipeline facilities. MMS also questions whether the same reporting requirements and accident form would apply for a cumulative 5 gallons leaked from a pipeline slowly or intermittently over a period of weeks or months.

The NPRM did not address the jurisdictional issues raised by MMS. We are addressing those issues in a separate rulemaking. As for the intermittent leak scenario, 49 CFR 195.401(b) requires a hazardous liquid pipeline operator to correct within a reasonable time any condition that could adversely affect the safe operation of the pipeline system. We consider a release of hazardous material (a leak) from a pipeline to be a condition that must be promptly corrected.

Regulatory Analyses and Notices

Executive Order 12866 and DOT Polices and Procedures

RSPA does not consider this rulemaking to be significant under Section 3(f) of Executive Order 12866 (85 FR 51735; October 4, 1993). RSPA also does not consider this rulemaking to be significant under DOT Regulatory Policies and Procedures (44 FR 11034; February 20, 1979).

Benefits

The additional data that OPS will receive by lowering of the accident reporting threshold from 50 barrels to 5 gallons and the more detailed causation reporting, will enable RSPA and the hazardous liquid pipeline industry to better identify safety issues and trends in pipeline safety. Operators can then make informed decisions about changing their procedures to improve pipeline safety.

Costs

RSPA's revised form is composed of a “short” form (page one of the four page form for spills of less than 5 barrels as described above) and a “long” form of 4 pages for spills of 5 barrels or more, or spills to water as described above. We estimate that it will take each operator about 1 hour to complete the short form (2 minutes per field x 37 fields on short form) and that the long form will take about 7 hours to complete (2 minutes per fields x 224 fields). We recognize that some fields will take only a few seconds to complete and that some will take more than 2 minutes, but we estimate that the type of information requested on the long and the short forms will require 1 and 7 hours to complete, respectively. We also recognize that more time may be needed to collect the basic information required for completing the form, but we believe that companies already maintain this information as part of routine recordkeeping.

We estimate that the number of accidents reported annually will be 1,839. OPS extrapolated from data in the American Petroleum Institute (API) Pipeline Performance Tracking Initiative (PPTI), an anonymous reporting system that collects information on spills down to 5 gallons. Of the 1,839 annual reports, we estimate that 427 will require the long form and 1,412 will require the short form. Below is RSPA's estimates of the aggregate time required to complete the revised forms:

427 long forms × 7 hours = 2,989 hours.

1,412 short forms × 1 hour =1,422 hours.

Total: 1,839 forms; 4,411 hours

We estimated the hourly cost of the person completing the form would be $40. This was based on the U.S. Department of Labor's National Occupational Employment and Wage Earnings for 1999. The hourly wage for a Transportation, Storage, and Distribution Manager (the closest category to a pipeline manager) was $26.03 per hour. This was multiplied by 1.35 to account for fringe benefits ($26.03 × 1.35 = $35.14). We added an inflation factor of 14% to account for inflation from 1999 to 2002 ($35.14 × 1.14 = $40.05). If the average cost per hour is $40, the total annual industry cost is $176,440 annually (4,411 × $40 = $176,440).

The hazardous liquid pipeline industry historically files an average of 166 reports annually. Completion of each of these reports was estimated to take 6 hours, based on the time needed to research the information, or 996 hours annually (166 reports × 6 hours). At $40 per hour, the total industry cost averages $39,840 annually (996 × $40 = $39,840).

The net annual increase to the hazardous liquid pipeline industry resulting from the revisions to the reporting criteria and to the form is $136,600 ($176,440−$39,840 = $136,600). Dividing the incremental cost increase of $136,600 by approximately 200 hazardous liquid pipeline operators, the average incremental cost increase of this proposal is $683 per operator.

Comments

Two commenters, a pipeline operator and the Chief Counsel for Advocacy of the Small Business Administration (SBA), questioned RSPA's estimate of 7 hours to complete the long form. The SBA Chief Counsel for Advocacy wanted to know the basis for the 7 hour estimate.

We worked with a government/industry pipeline data team over the last several years to determine the extent of information that needed to be collected. RSPA is asking for only the most important information so as not to unduly burden pipeline operators. Moreover, the information requested on the revised form is not available from other sources.

We estimate that it will take each operator about 1 hour to complete the short form (2 minutes per field x 37 fields on short form) and that the long form will take about 7 hours to complete (2 minutes per fields x 224 fields). Electronic reporting of accidents, which will begin on January 1, 2002, should further reduce the time needed to complete the form. We believe this estimate is accurate based on these considerations.

Conclusion

RSPA believes that the additional cost of $136,600 annually is a minimal economic impact on the hazardous liquid pipeline industry. The benefits accruing to OPS and the pipeline industry; through the improvements in the quality of the information collected, should easily outweigh the cost.

Regulatory Flexibility Act

We sought input from the public on the impact of the proposed rule on small entities in the Notice of Proposed Rulemaking in this docket (66 FR 15681; March 20, 2001). No one responded to this request. The SBA Chief Counsel for Advocacy, however, made a few comments on behalf of small businesses. SBA asked the basis for using the short versus the long form. We described the usage of the short versus long form above. SBA also posed a question regarding how many operators RSPA would consider small. For several years, RSPA has sought public comment from small hazardous liquid operators. RSPA solicited public comment from small operators in its recent rulemakings on pipeline integrity management. No comments from small hazardous liquid operators were forthcoming.

The hazardous liquid pipeline industry is a highly competitive, capital intensive industry that has experienced many mergers and buyouts in recent years. SBA's criteria for defining a small entity in the hazardous liquid pipeline industry is 1,500 employees, as specified in the North American Industry Classification System codes (486110—Pipeline Transportation of Crude Oil and 486910—Pipeline Transportation of Refined Petroleum Products). We do not collect information on number of employees or revenues for pipeline operators. Such a collection would require OMB approval. However, we have discussed with SBA the characterization of hazardous liquid pipelines for purposes of this rulemaking. We intend to continue our dialog with SBA on its efforts to ascertain the number of small business operators in the hazardous liquid pipeline industry.

We made the following observations in assessing the effect of this rule on small businesses:

(1) Whether you characterize a hazardous liquid pipeline company as small or large, the cost is small in absolute terms. The average cost for all companies based on an estimated total impact of $136,600 annually is $683.00 per operator. We believe the benefits of this rule far outweigh the company cost.

(2) Assuming equal operating conditions across all pipeline mileage, the probability of having a reportable accident on a per mile basis is 1,839 expected reportable accidents per year over 154,000 miles of hazardous liquid pipeline, or about 1 reportable accident per hundred miles of pipeline. Companies with thousands of miles of pipe will typically have more reportable accidents than companies with hundreds of miles of pipe or less. Companies with less mileage will have a proportionately lower share of the estimated $136,600 annual cost posed by this rulemaking, for an average total per company cost of less than $683;

(3) We estimate that the nation's 80 largest hazardous liquid pipeline companies (based on pipeline mileage reported to RSPA by operators annually) operate more than 91% of the nation's total hazardous liquid pipeline mileage. About 120 companies operate the remaining 9% of mileage. Assuming this 9% of mileage were operated by “small operators,” these operators would experience no more than 9% of the reportable accidents and incur 9% or less of the $136,600 annual cost. This amounts to $12,294 total annual costs, or about $102 per company. Many of these 120 operators are, however, owned by or parts of nationally recognized large corporations, so the burden would actually be less than $102 per small business annually.

Based on the increase in costs to the industry of this rulemaking, RSPA certifies, pursuant to section 605 of the Regulatory Flexibility Act (5 U.S.C. 605), that this rulemaking would not have a significant impact on a substantial number of small entities.

Paperwork Reduction Act

This final rule contains information collection requirements as required by the Paperwork Reduction Act of 1995 (44 U.S.C. 3507 (d)). RSPA has previously submitted a copy of the Paperwork Reduction Act analysis to OMB for its review. The name of the information collection is “Transportation of Hazardous Liquids by Pipeline: Record Keeping and Accident Reporting.” The purpose of this information collection is to improve the current hazardous liquid pipeline accident information collection.

According to the Paperwork Reduction Act, no persons are required to respond to a collection of information unless a valid OMB control number is displayed. OMB has approved the revised form RSPA F7000-1 and this information collection. The OMB control number for this information collection is 2137-0047. For more details, see the Paperwork Reduction Analysis available for copying and review in the public docket.

Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

Executive Order 13132

This final rule has been analyzed in accordance with the principles and criteria contained in Executive Order 13132 (“Federalism”). This final rule does not adopt any regulation that (1) has substantial direct effects on the States, the relationship between the national government and the States, or the distribution of power and responsibilities among the various levels of government; (2) imposes substantial direct compliance costs on States and local governments; or (3) preempts State law. Therefore, the consultation and funding requirements of Executive Order 13132 (64 FR 43255; August 10, 1999) do not apply.

Executive Order 13211

This rulemaking is not a “significant energy action” within the meaning of Executive Order 13211 (“Actions Concerning Regulations That Significantly Affect Energy Supply, Distribution, or Use.”) It is not a significant regulatory action under Executive Order 12866 and is not likely to have a significant adverse effect on the supply, distribution, or use of energy. Further, this rulemaking has not been designated by the Administrator of the Office of Information and Regulatory Affairs as a significant energy action.

Unfunded Mandates

This rule does not impose unfunded mandates under the Unfunded Mandates Reform Act of 1995. It does not result in costs of $100 million or more to either State, local, or tribal governments, in the aggregate, or to the private sector, and is the least burdensome alternative that achieves the objective of the rule.

National Environmental Policy Act

RSPA has analyzed the final rule in accordance with section 102(2)(c) of the National Environmental Policy Act (42 U.S.C. 4332), the Council on Environmental Quality regulations (40 CFR 1500-1508), and DOT Order 5610.1D, and has determined that this action would not significantly affect the quality of the human environment, because information collection does not impact the environment.

List of Subjects in 49 CFR Part 195

Anhydrous Ammonia, Carbon dioxide, Incorporation by reference, Petroleum, Pipeline safety, Reporting and recordkeeping requirements.

For all the reasons described in this final rule, RSPA is amending Title 49, Part 195, Code of Federal Regulations, as follows:

PART 195—TRANSPORTATION OF HAZARDOUS LIQUIDS BY PIPELINE

1. The authority citation for part 195 continues to read as follows:

Authority: 49 U.S.C. 5103, 60102, 60104, 60108, 60109, 60118; and 49 CFR 1.53.

2. Amend § 195.50 to revise paragraph (b), to remove paragraph (c), to redesignate paragraphs (d) through (f) as paragraphs (c) through (e) and revising the newly designated paragraphs, to read as follows:

§ 195.50 Reporting accidents.

* * * * *

(b) Release of 5 gallons (19 liters) or more of hazardous liquid or carbon dioxide, except that no report is required for a release of less than 5 barrels (0.8 cubic meters) resulting from a pipeline maintenance activity if the release is:

(1) Not otherwise reportable under this section;

(2) Not one described in § 195.52(a)(4);

(3) Confined to company property or pipeline right-of-way; and

(4) Cleaned up promptly;

(c) Death of any person;

(d) Personal injury necessitating hospitalization;

(e) Estimated property damage, including cost of clean-up and recovery, value of lost product, and damage to the property of the operator or others, or both, exceeding $50,000.

Issued in Washington, DC, on December 21, 2001.
Ellen G. Engleman,
Administrator.

BILLING CODE 4910-60-P

[FR Doc. 02-266 Filed 1-7-02; 8:45 am]

BILLING CODE 4910-60-C